DEPARTMENT OF DEFENSE

Department of the Army; Corps of Engineers

Notice of Solicitation for Estuary Habitat Restoration Program

AGENCY: Department of the Army, Army Corps of Engineers, DoD.

ACTION: Notice of solicitation for project applications.

SUMMARY: Congress has appropriated limited funds to the U.S. Army Corps of Engineers (Corps) to implement the Estuary Habitat Restoration Program as authorized in Section 104 of the Estuary Restoration Act of 2000, Title I of the Estuaries and Clean Waters Act of 2000 (Pub. L. 106-457) (accessible at http://restoration.nos.noaa.gov/pdfs/act_s835.pdf). On behalf of the Estuary Habitat Restoration Council (Council), the Corps is soliciting proposals for estuary habitat restoration projects. This document describes project criteria and evaluation criteria the Council will use to determine which projects to recommend. Recommended projects must provide ecosystem benefits, have scientific merit, be technically feasible, and be cost-effective. Proposals selected for Estuary Habitat Restoration Program funding will be implemented in accordance with a cost-share agreement with the Corps. This is not a grants program.

DATES: Proposals must be received on or before July 25, 2005.

ADDRESSES: Proposal forms may be accessed at http://www.usace.army.mil/civilworks/cecwp/estuary_act/ or by contacting the individuals listed in the following section. Project proposals may be submitted electronically, by mail, or by courier. Electronic submissions are preferred and will facilitate processing. Please follow the detailed instructions provided in section IX. of the SUPPLEMENTARY INFORMATION section.

FOR FURTHER INFORMATION CONTACT: Ms. Ellen Cummings, Headquarters, U.S. Army Corps of Engineers, Washington, DC 20314-1000, (202) 761-4750, e-mail: Ellen.M.Cummings@usace.army.mil; or Ms. Cynthia Garman-Squier, Office of the Assistant Secretary of the Army (Civil Works), Washington, DC (703) 695-6791, e-mail: Cynthia.Garman-Squier@hqda.army.mil.

SUPPLEMENTARY INFORMATION:

I. Introduction

Under the Estuary Habitat Restoration Program, the U.S. Army Corps of Engineers (Corps) is authorized to carry out estuary habitat restoration projects. However, the Estuary Habitat Restoration Council (Council) is responsible for soliciting, reviewing and evaluating project proposals. The Corps may only fund projects on the prioritized list provided by the Council. The Estuary Habitat Restoration Strategy prepared by the Council contains introductory information about the program and provides the context in which projects will be evaluated and the program will be conducted. The Strategy was published in the Federal Register, 67 FR 71942, December 3, 2002. It is also accessible at http://www.usace.army.mil/civilworks/cecwp/estuary_act/.

An emphasis will be placed on achieving cost-effective restoration of ecosystems while promoting increased partnerships among agencies and between public and private sectors. Projects funded under this program will contribute to the Estuary Habitat Restoration Strategy goal of restoring 1,000,000 acres of estuary habitat.

For purposes of this program, estuary is defined as “a part of a river or stream or other body of water that has an unimpaired connection with the open sea and where the sea water is measurably diluted with fresh water from land drainage.” Estuary also includes the “* * * near coastal waters and wetlands of the Great Lakes that are similar in form and function to estuaries * * *.” For this program, estuary is considered to extend from the head of tide to the boundary with the open sea (to downstream terminus features or structures such as barrier islands, reefs, sand bars, mud flats, or headlands in close proximity to the connection with the open sea). In the Great Lakes, riparian and nearshore areas will be considered to be estuaries. Estuary habitat includes the estuary and its associated ecosystems, such as: salt, brackish, and fresh water coastal marshes; coastal forested wetlands and other coastal wetlands; maritime forests; coastal grasslands; tidal flats; natural shoreline areas; shellfish beds; sea grass meadows; kelp beds; river deltas; and river and stream corridors under tidal influence.

II. Eligible Restoration Activities

Section 103 of the Estuary Restoration Act of 2000 (the Act) defines the term estuary habitat restoration activity to mean “an activity that results in improving degraded estuaries or estuary habitat or creating estuary habitat (including both physical and functional restoration), with the goal of attaining a self-sustaining system integrated into the surrounding landscape.” Projects funded under this program will be consistent with this definition.

Eligible habitat restoration activities include re-establishment of chemical, physical, hydrologic, and biological features and components associated with an estuary. Restoration may include, but is not limited to, improvement of estuarine wetland tidal exchange or reestablishment of historic hydrology; dam or berm removal; improvement or reestablishment of fish passage; appropriate reef/substrate/habitat creation; planting of native estuarine wetland and submerged aquatic vegetation; reintroduction of native species; control of invasive species; and establishment of riparian buffer zones in the estuary. Cleanup of pollution for the benefit of estuary habitat may be considered, as long as it does not meet the definition of excluded activities under the Act (see section III, Excluded Activities, below).

In general, proposed projects should clearly demonstrate anticipated benefits to habitats such as those habitats listed in the Introduction. Although the Council recognizes that water quality and land use issues may impact habitat restoration efforts and must be considered in project planning, the Estuary Habitat Restoration Program is intended to fund physical habitat restoration projects, not measures such as storm water detention ponds, wastewater treatment plant upgrades or combined sewer outfall improvements.

III. Excluded Activities

Estuary Habitat Restoration Program funds will not be used for any activity that constitutes mitigation required under any Federal or State law for the adverse effects of an activity regulated or otherwise governed by Federal or State law, or that constitutes restoration for natural resource damages required under any Federal or State law. Estuary Habitat Restoration Program funds will not be used for remediation of any hazardous substances regulated under the Comprehensive Environmental Response, Compensation, and Liability Act (42 U.S.C. 9601-9675). Additionally, Estuary Habitat Restoration Program funds will not be used to carry out projects on Federal lands.

IV. Project Sponsor and Cost Sharing

The non-Federal sponsor may be a State, a political subdivision of a State, a Tribe, or a regional or interstate agency. A nongovernmental organization may serve as a non-Federal sponsor as determined by the Secretary of the Army (Secretary) in consultation with appropriate State and local governmental agencies and Tribes.

The Federal share of the cost of an estuary habitat restoration project shall not exceed 65 percent except that the Federal share shall be 85 percent of the incremental additional cost of pilot testing or demonstration of an innovative technology having the potential for improved cost-effectiveness. Innovative technology is defined as novel processes, techniques and/or materials to restore habitat, or the use of existing processes, techniques, and/or materials in a new restoration application.

Prior to initiation of a project, the non-Federal sponsor must enter into a written agreement with the Corps in which the non-Federal sponsor agrees to provide its share of the project cost. The non-Federal sponsor shall provide lands, easements, rights-of-way, and relocations and may provide services and in-kind contributions for credit toward its share of the project cost. Credit for the value of in-kind contributions is subject to satisfactory compliance with applicable Federal labor laws covering non-Federal construction, including but not limited to the Davis-Bacon Act (40 U.S.C. 276a et seq.), the Contract Work Hours and Safety Standards Act (40 U.S.C. 327 et seq.), and the Copeland Anti-Kickback Act (40 U.S.C. 276c). Credit may be afforded for the value of required work undertaken by volunteers, using the hourly value in common usage for grants program but not to exceed the Federal estimate of the cost of activity. The non-Federal sponsor shall also be responsible for all costs associated with operating, maintaining, replacing, repairing, and rehabilitating these projects as well as for the required post-construction monitoring.

Other Federal funds, i.e., funds appropriated to agencies other than the Corps, may not be used by the non-Federal sponsor to meet its share of the project cost unless the other Federal agency verifies in writing that expenditure of funds for such purpose is expressly authorized by statute. Otherwise, other Federal funds may be used for the proposed project if consistent with the other agency's authorities and will count as part of the Federal share of the project cost. Any non-Federal funds or contributions used as a match for these other Federal funds or any other Federal program may be used toward the project but will not be considered in determining the non-Federal share in relation to the Corps' costs.

Credit will be provided only for work necessary for the specific project being funded with Estuary Habitat Restoration Program funds. For example, a non-Federal entity is engaged in the removal of ten dams, has removed six dams, and now seeks assistance for the removal of the remaining four dams as an Estuary Habitat Restoration Program project. None of the costs associated with the removal of the six dams is creditable as part of the non-Federal share of the project for removal of four dams.

This is not a grants program. The Corps will not transfer funds to the non-Federal sponsor. The Corps will implement (construct) some portion of the proposed project. To the extent possible the Corps will use the planning, evaluation, and design products provided by the applicant. However, the Corps will be responsible for assuring compliance with Federal environmental statutes, assuring the project is designed to avoid adverse impacts on other properties and that the project can reasonably be expected to provide the desired benefits, and managing construction activities not performed by the non-Federal sponsor as in-kind contribution. These Corps activities will be part of the Federal cost of the project, and the non-Federal sponsor should consider these costs in developing the project cost estimate.

V. Funding Availability

Limited funds have been appropriated for implementation of projects under the Estuary Habitat Restoration Program. The Council will not accept proposals that indicate an estimated Federal cost of less than $25,000 or more than $1,000,000. There is no guarantee that sufficient funds will be available to fund all eligible proposals. The number of proposals funded as a result of this notice will depend on the number of eligible proposals received, the estimated amount of funds required for each selected project, and the merit and ranking of the proposals. The exact amount of the Federal and non-Federal cost share for each selected project will be specified in the written agreement discussed in Project Cost Sharing, Section IV above. Projects selected for funding must be capable of producing the ecosystem benefits described in the proposal in the absence of Federal funding beyond that established in the cost-share agreement.

VI. Proposal Review Process

Proposals will be screened as discussed in section VII. A. below to determine eligibility. The staff of the agencies represented on the Council will conduct a technical review of the eligible proposals in accordance with the criteria described in section VII. B. below. Agency scientists involved in estuarine research or the development and application of innovative methods for restoring estuary habitats will also review proposals that indicate the use of innovative technologies. Each agency will score and rank the proposals; the staff of the five agencies will use these rankings as the basis for a consolidated recommendation. The Council will consider the staff recommendation, the items discussed in sections VII. C. and D. below, and possibly other factors when preparing its prioritized list of recommended projects for the Secretary's use.

VII. Proposal Review Criteria

This section describes the criteria that will be used to review and select projects to be recommended to the Secretary for funding under the Act. It will benefit applicants to ensure that project proposals clearly address the criteria set forth under the following four subsections: Initial Screening of Project Proposals; Evaluation of Project Proposals; Priority Elements; and Other Factors.

A. Initial Screening of Project Proposals

Proposals will be screened according to the requirements listed in sections 104(b) and 104(c)(2) of the Act as described below. In addition, proposed projects must not include excluded activities as discussed in Section III above. Proposals that do not meet all of these initial screening criteria will not be evaluated further. To be accepted, the proposal must:

(1) Originate from a non-Federal sponsor (section 104(b));

(2) Address restoration needs identified in an estuary habitat restoration plan (section 104 (c)(2)(A)). The Act defines “estuary habitat restoration plan” as any Federal or State plan for restoration of degraded estuary habitat that was developed with substantial participation of the public. (section 103(6));

(3) Be consistent with the Estuary Habitat Restoration Strategy (section 104(c)(2)(B)) by:

(a) Including eligible restoration activities that provide ecosystem benefits;

(b) Addressing estuary habitat trends (including historic losses) in the project region, and indicating how these were considered in developing the project proposal;

(c) Involving a partnership approach, and

(d) Clearly describing the benefits expected to be realized by the proposed project;

(4) Include a monitoring plan that is consistent with standards developed by NOAA under section 104(c)(2)(C)) (available at: http://era.noaa.gov/htmls/era/era_monitoring.html, or from the contacts listed in the FOR FURTHER INFORMATION CONTACT section above), and;

(5) Include satisfactory assurances that the non-Federal sponsor has adequate authority and resources to carry out items of local cooperation and properly maintain the project (section 104(c)(2)(D)).

B. Evaluation of Project Proposals

Proposals that meet the initial screening criteria in A. above will be eligible for further review using the criteria listed below. The following criteria are listed in order of relative importance with the most important criteria first. The first four criteria are the most important. If the reviewers find that a response to any of the first four criteria is completely inadequate, the proposal will be rejected. For each of the listed criteria, the focus will be on the factors mentioned below but other factors may also be considered.

(1) Ecosystem Benefits—

Proposals will be evaluated based on the extent of proposed habitat restoration activities and the type(s) of habitat(s) that will be restored. Following are specific factors that reviewers will consider as part of this criterion:

(a) Prevention or reversal of estuary habitat loss or degradation in the project area and the nature and extent of the proposed project's potential contribution to the long-term conservation of estuary habitat function,

(b) Benefits for Federally listed endangered or threatened species, species proposed for Federal listing, recently delisted species or designated or proposed critical habitat in the project area,

(c) Extent to which the project will provide, restore, or improve habitat important for estuary-dependent fish and/or migratory birds (e.g. breeding, spawning, nursery, foraging, or staging habitat),

(d) Prevention or reduction of nonpoint source pollution or other contaminants to estuary habitats or restoration of estuary habitats that are already contaminated, and

(e) Benefits to nearby existing habitat areas, or contribution to the creation of wildlife/ecological corridors connecting existing habitat areas.

(2) Cost-Effectiveness—

Reviewers will evaluate the relationship between estimated project costs, including the costs of remaining planning, design, construction, required lands, and annual operation, maintenance, repair, rehabilitation and replacement and monitoring cost, to the monetary and non-monetary benefits described in the proposal. Clear quantitative and qualitative descriptions of the proposed outputs will facilitate this evaluation. Examples of units of measure include: Acres restored, flood damage reduction levels, changes in water quality parameters, increases in the productivity of various species, and presence and absence of certain species. The estimated persistence of the proposed project outputs will be considered. For example, will the area be maintained as a wetland, or allowed to erode or become upland? Will the proposed project produce additional benefits due to synergy between the proposed project and other ongoing or proposed projects? Reviewers will consider if the proposed project is a cost-effective way to achieve the proposed benefits. In some instances the costs and benefits of proposed projects may be compared to the costs and benefits of other similar projects in the area. The significance of the proposed outputs is also a factor to be considered as part of cost-effectiveness. The significance of restoration outputs should be recognized in terms of institutional (such as laws, adopted plans, or policy statements), public (such as support for the project), or technical (such as addresses scarcity, increases limiting habitat, or improves or increases biodiversity) importance.

(3) Technical Feasibility—

Reviewers will evaluate the extent to which, given current and projected environmental conditions of the restoration site—e.g., soils, flood regime, presence of invasive species, surrounding land use—the proposed project is likely to be successfully implemented. Consideration will also be given to:

(a) Potential success of restoration techniques, based on history of successful implementation in field or pilot projects,

(b) Implementation schedule,

(c) Expected length of time before success can be demonstrated,

(d) Proposed corrective actions using monitoring information,

(e) Project management plans, and

(f) Experience and qualifications of project personnel.

(4) Scientific Merit—

Reviewers will evaluate the extent to which the project design is based on sound ecological principles and is likely to meet project goals. This may be indicated by the following factors:

(a) Goals of the project are reasonable considering the existing and former habitat types present at the site and other local influences,

(b) Conceptual approach demonstrates an understanding of habitat function, and

(c) Specific methods proposed (if successfully implemented—see criteria on technical feasibility) have a good chance of meeting project goals and achieving long-term sustainability.

(5) Agency Coordination—

Reviewers will evaluate the degree to which the project will encourage increased coordination and cooperation among Federal, State, and local government agencies. Some of the indicators used to evaluate coordination are:

(a) The State, Federal, and local agencies involved in developing the project and their expected roles in implementation,

(b) The nature of agency coordination, e.g., joint funding, periodic multi-agency review of the project, collaboration on adaptive management decisions, joint monitoring, opportunities for future collaboration, etc., and

(c) Whether a formal agreement, such as a Memorandum of Understanding (MOU), exists between/among agencies as part of the project.

(6) Public/Private Partnerships—

One of the focuses of the Act is the encouragement of new public/private partnerships. Reviewers will evaluate the degree to which the project will foster public/private partnerships and uses Federal resources to encourage increased private sector involvement. Indicators of the success at meeting this criterion follow. How will the project promote collaboration or create partnerships among public and private entities, including potential for future new or expanded public/private partnerships? What mechanisms are being used to establish the partnership, e.g., joint funding, shared monitoring, joint decision-making on adaptive management strategies? Is there a formal agreement, such as an MOU, between/among the partners as part of the project? Also important is the extent to which the project creates an opportunity for long-term partnerships among public and private entities.

(7) Level of Contribution—

Reviewers will consider the level and type (cash or in-kind) of non-Federal contribution. Providing more than the minimum 35-percent share will be rated favorably.

(8) Monitoring Plan—

Reviewers will consider the following factors in evaluating the quality of the monitoring plan:

(a) Linkage between the monitoring methods and the project goals, including success criteria,

(b) How results will be evaluated (statistical comparison to baseline or reference condition, trend analysis, or other quantitative or qualitative approach),

(c) How baseline conditions will be established for the parameters to be measured,

(d) If applicable, the use and selection of reference sites, where they are located, how they were chosen, and whether they represent target conditions for the habitat or conditions at the site without restoration,

(e) The appropriateness of the nature, frequency, and timing of measurements and which areas will be sampled,

(f) Provisions for adaptive management, and data reporting, and

(g) whether the length of the proposed monitoring plan is appropriate for the project goals (should be at least five years).

(9) Multiple Benefits—

In addition to the ecosystem benefits discussed in criterion (1) above, restored estuary habitats may provide additional benefits. Among those the reviewers will consider are: flood damage reduction, protection from storm surge, water quality and/or quantity for human uses, recreational opportunities, and benefits to commercial fisheries.

(10) Dedicated Funding Source—

Reviewers will consider if the State in which the proposed project will be located has a dedicated source of funding to acquire or restore estuary habitat, natural areas, and open spaces for the benefit of estuary habitat restoration or protection.

(11) Supports Regional Restoration Goals—

Reviewers will evaluate the extent to which the proposed project contributes to meeting and/or strengthening the needs, goals, objectives and restoration priorities contained in regional restoration plans, and the means that will be used to measure such progress.

(12) Supports Federal Plan—

If the proposed project supports a Federal plan (examples of Federal plans are listed in section 103(6)(B) of the Act), reviewers will consider the extent to which the project would contribute to meeting and/or strengthening the plan's needs, goals, objectives and restoration priorities, and the means that will be used to measure such progress.

C. Priority Elements

Section 104(c)(4) of the Act directs the Secretary to give priority consideration to a project that merits selection based on the above criteria if it:

(1) Occurs within a watershed where there is a program being implemented that addresses sources of pollution and other activities that otherwise would adversely affect the restored habitat; or

(2) Includes pilot testing or demonstration of an innovative technology having the potential to achieve better restoration results than other technologies in current practice, or comparable results at lower cost in terms of energy, economics, or environmental impacts.

The Council will also consider these priority elements in ranking proposals.

D. Other Factors

In addition to considering the composite ratings developed in the evaluation process and the priority elements listed in C. above, the Council will consider other factors when preparing its prioritized list for the Secretary's use. These factors include (but may not be limited to) the following:

(1) Readiness of the project for implementation. Among the factors to be considered when evaluating readiness are the steps that must be taken prior to project implementation, potential delays to project implementation, and the status of real estate acquisition.

(2) Balance between large and small projects, as defined in the Estuary Habitat Restoration Strategy.

(3) Geographic distribution of the projects.

VIII. Project Selection and Notification

The Secretary will select projects for funding from the Council's prioritized list of recommended projects after considering the criteria contained in section 104(c) of the Act, availability of funds and any reasonable additional factors. It is expected that the Secretary will select proposals for implementation approximately 100 days after the close of this solicitation or 30 days after receiving the list from the Council, whichever is later. The non-Federal sponsor of each proposal will be notified of its status at the conclusion of the selection process. Staff from the appropriate Corps Districts will work with the non-Federal sponsor of each selected project to develop the cost-sharing agreements and schedules for project implementation.

IX. Application Process

Proposal application forms are available at http://www.usace.army.mil/civilworks/cecwp/estuary_act/ or by contacting Ms. Ellen Cummings, Headquarters, U.S. Army Corps of Engineers, Washington, DC 20314-1000, (202) 761-4750, e-mail: Ellen.M.Cummings@usace.army.mil; or Ms. Cynthia Garman-Squier, Office of the Assistant Secretary of the Army (Civil Works), Washington, DC (703) 695-6791, e-mail: Cynthia.Garman-Squier@hqda.army.mil. The application form has been approved by OMB in compliance with the Paper Work Reduction Act and is OMB No. 0710-0014 with an expiration date of 04/30/2008. Electronic submissions are preferred and should be sent to estuary.restoration@usace.army.mil. Questions may also be sent to this e-mail address. Hard copy submissions may be sent or delivered to HQUSACE, ATTN: CECW-PC, 7701 Telegraph Road #3D72, Alexandria, VA 22315-3860. The narrative portion of a nomination should be no more than twelve double-spaced pages, using a 10 or 12-point font. Paper copies should be printed on one side only of an 8.5 in. x 11 in. page and not bound. A PC-compatible floppy disk or CD-ROM in either Microsoft Word or WordPerfect format may accompany the paper copy. Nominations for multiple projects submitted by the same applicant must be submitted in separate e-mail messages and/or envelopes.

Brenda S. Bowen,
Army Federal Register Liaison Officer.

[FR Doc. 05-11358 Filed 6-7-05; 8:45 am]

BILLING CODE 3710-92-P